DEPARTMENT OF COMMERCE

National Oceanic and Atmospheric Administration

[RTID 0648-XE679]

Mid-Atlantic Fishery Management Council (MAFMC); Public Meeting

AGENCY: National Marine Fisheries Service (NMFS), National Oceanic and Atmospheric Administration (NOAA), Commerce.

ACTION: Notice; public meeting.

SUMMARY: The MAFMC will hold a public webinar meeting of its Mackerel, Squid, and Butterfish (MSB) Advisory Panel. See SUPPLEMENTARY INFORMATION for agenda details.

DATES: The meeting will be held on Wednesday, April 23, 2025, from 1 p.m. to 5 p.m.

ADDRESSES: Webinar connection information will be posted to the calendar prior to the meeting at www.mafmc.org.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this meeting is to discuss recent performance of the Atlantic mackerel, chub mackerel, Illex squid, longfin squid, and butterfish fisheries and develop Fishery Performance Reports. These reports will be considered by the Scientific and Statistical Committee, the Monitoring Committee, and the Mid-Atlantic Fishery Management Council when:

• Setting 2026-2028 catch and landings limits and other measures (i.e., specifications) for Illex squid,

• Setting 2026-2027 specifications for Atlantic mackerel,

• Setting 2026-2028 specifications for chub mackerel,

• Reviewing previously set 2026 specifications for butterfish, and

• Reviewing previously set 2026 specifications for longfin squid.

Public comments will also be taken.

Special Accommodations

The meeting is physically accessible to people with disabilities. Requests for sign language interpretation or other auxiliary aid should be directed to Shelley Spedden, (302) 526-5251, at least 5 days prior to the meeting date.

Authority: 16 U.S.C. 1801 et seq.

Dated: March 12, 2025.
Rey Israel Marquez,
Acting Deputy Director, Office of Sustainable Fisheries, National Marine Fisheries Service.

[FR Doc. 2025-04277 Filed 3-14-25; 8:45 am]

BILLING CODE 3510-22-P